DELAWARE RIVER BASIN COMMISSION

Notice of Commission Meeting and Public Hearing

Notice is hereby given that the Delaware River Basin Commission will hold an informal conference followed by a public hearing on Monday, September 26, 2005. The hearing will be part of the Commission's regular business meeting. Both the conference session and business meeting are open to the public and will be held at the Commission's office building, located at 25 State Police Drive in West Trenton, New Jersey.

The conference among the commissioners and staff will begin at 10:30 a.m. Topics of discussion will include presentations on Basin Plan implementation activities to date, sedimentology of the Delaware River Estuary, the water supply plan for the State of Delaware, and coordinated response to a coal ash spill to the Delaware River from a settling basin at PPL's Martins Creek power plant.

The subjects of the public hearing to be held during the 1:30 p.m. business meeting include the dockets listed below:

1. Town of Middletown D-78-64 CP-2. An application for approval of a ground water withdrawal project to supply up to 24 million gallons per thirty days (mg/30 days) of water to the applicant's public water supply system from new Wells Nos. 4 and 6 and to increase the existing withdrawal from all wells to 51 mg/30 days. The project is located in the Magothy Aquifer in the Town of Middletown, New Castle County, Delaware.

2. Hercules Incorporated Research Center D-84-28-3. An application for the renewal of a ground water withdrawal project to reduce withdrawal from 10 mg/30 days to 5 mg/30 days to supply the applicant's research facility from existing Wells Nos. 8, 9, 10, 13, 14, 15, 18, 19, 20, 21 and 23. The project is located in the Red Clay Creek Watershed in the City of Wilmington, New Castle County, Delaware.

3. Town of Middletown D-2003-30 CP. An application for approval of a ground water withdrawal project to supply up to 6.48 mg/30 days of water to the applicant's golf course irrigation system from new Well No. FH 1 in the Magothy Formation. The project is located in the Appoquinimink River Watershed in the Town of Middletown, New Castle County, Delaware.

4. Ralph Franceschini D-81-49-3. An application for the renewal of a ground water withdrawal project to increase withdrawal from 5.83 mg/30 days to 21.3 mg/30 days to supply the applicant's field crops from existing Wells Nos. 1 and 3. The project is located in the Manantico Creek Watershed in the City of Vineland, Cumberland County, New Jersey.

5. Mount Laurel Municipal Utilities Authority D-85-9 CP-3. An application for the renewal of a ground water withdrawal project to continue withdrawal of 120 mg/30 days to supply the applicant's public supply distribution system from existing Wells Nos. 3, 4 and 6 and to convert existing Well No. 7 to an Aquifer Storage and Recovery Well. The project is located in the North Branch Pennsauken Creek Watershed in Mount Laurel Township, Burlington County, New Jersey.

6. Alcan Packaging D-92-14-2. An application for the renewal of two of the applicant's existing Wells Nos. 5A and 11; Wells Nos. 13, 14, 15 and 16 have been transferred to The Glass Group, Inc. and Wells Nos. 1 and 12 have been abandoned and sealed. The total combined allocation of 65.3 mg/30 days for the existing wells has been reduced to 30.0 mg/30 days. The wells will continue to supply the applicant's manufacturing facility in the Maurice River Watershed. The project is located in the city of Millville, Cumberland County, New Jersey. (This was NAR'd as Lawson Mardon Wheaton, Inc. D-92-14 Renewal.)

7. Newton Country Club D-92-25-2. An application for renewal of a ground water and surface water withdrawal project to continue to supply up to 6.167 mg/30 days of water for supplemental irrigation of the applicant's golf course from existing Wells Nos. 1 and 2 in the Martinsburg Shale Formation and existing surface water Intakes Nos. 1 and 2. The project is located in the Paulins Kill Watershed in Andover Township, Sussex County, New Jersey.

8. Upper Deerfield Township D-93-16 CP-2. An application for renewal of a ground water withdrawal project to continue to supply up to 19.8 mg/30 days to the applicant's public water supply distribution system from existing Wells Nos. 3 and 4, located in the Cohansey Formation within the Cohansey River Watershed in Upper Deerfield Township, Cumberland County, New Jersey.

9. Magnesium Elektron, Inc. D-94-73. An application for approval of a ground water withdrawal project to supply up to 9.8 mg/30 days of water as part of the applicant's ground water remediation system and industrial supply from Wells Nos. 1, 2, 3, 4, 5, 6, 8 and S2. The project is located in the Wickecheoke Creek Watershed in Kingwood Township, Hunterdon County, New Jersey.

10. Township of Medford D-95-55 CP-2. An application to replace the withdrawal of water from Well No. 4 in the applicant's water supply system that has become an unreliable source of supply and to retain the withdrawal limit of 77 mg/30 days from all wells combined. The project is located in the South Branch Rancocas Creek Watershed in Medford Township, Burlington County, New Jersey.

11. Six Flags Great Adventure D-96-6. A revised application for a surface water withdrawal for irrigation of the applicant's Safari Park. The proposed project withdrawal is from two existing intakes on Lahaway Creek, a tributary of Crosswicks Creek, and to be operated in conjunction with water imported from Well No. IR-1 located in the Atlantic Basin as well as 18 existing wells for washing animals and structures. The total combined withdrawal from all sources is limited to 11.59 mg/30 days. The project is located in Jackson Township, Ocean County, New Jersey.

12. New Jersey-American Water Company D-2001-3 CP. An application for approval of a ground water withdrawal project to supply up to 4.1 mg/30 days of water to the applicant's public water distribution system from recently acquired Well No. 1. The project well is located in the Mt. Laurel-Wenonah Aquifer in the North Branch Rancocas Creek Watershed in Pemberton Township, Burlington County, New Jersey and will continue to serve Sunbury Village.

13. Citgo Asphalt Refining Company D-2001-27. An application for an increase in surface water withdrawal from 4.69 mg/30 days to 7.79 mg/30 days for the applicant's asphalt manufacturing process. The water is used as industrial non-contact process water for the purpose of steam production to heat storage tanks and pipelines in the petroleum refining process. The increase in surface water is intended to offset the previous use of ground water from the Potomac-Raritan-Magothy Aquifer from two wells which are now abandoned. Following 10 percent consumptive loss in the asphalt refining process, wastewater generated from the facility is routed to the Gloucester County Utility Authority Sewage Treatment Plant for treatment and discharge to the Delaware River. The applicant will continue to withdraw water from the tidal portion of Mantua Creek adjacent to the facility, approximately 3,000 feet from the Delaware River in West Deptford Township, Gloucester County, New Jersey.

14. Narrowsburg Water District D-92-81 CP-2. An application for the renewal of a ground water withdrawal project to continue withdrawal of 4.11 mg/30 days to supply the applicant's public water supply system. The renewal continues the use of Well Nos. 2 and 3 as sources, and includes a request to approve the use of replacement Well No. 1, TTW-1R, which replaces old Well No. 1, TTW-1. Old Well No. 1, TTW-1, was taken out of service in 1994 due to potential contamination. The project is located in the Glacial Outwash and Honesdale Formations in the Town of Tusten, Sullivan County, New York.

15. Borough of Kutztown D-83-23 CP-3. An application for the renewal of a ground water withdrawal project to continue withdrawal of 60 mg/30 days to supply the applicant's public water supply distribution system from existing Wells Nos. 1, 2, 3A, 4 and 5 in the Epler and Ontelaunee Formations. The project is located in the Sacony Creek Watershed in Maxatawny Township, Berks County, Pennsylvania.

16. Reliant Energy Mid Atlantic Power Holdings, LLC D-87-26-2. An application to modify an industrial wastewater and stormwater discharge to the Schuylkill River from the Titus Generating Station. The coal-fired 225 megawatt electric generating station is located in Cumru Township, Berks County, Pennsylvania. The docket holder is currently permitted to discharge an average monthly total dissolved solids (TDS) concentration of 2,500 milligrams per liter (mg/l) from Outfall 004, which is used only on an intermittent basis. The Pennsylvania Department of Environmental Protection (PADEP) has based its NPDES permit limits for this outfall on a flow of 1.007 million gallons per day (mgd). The docket holder has requested modification of its docket to allow an increase in its average monthly discharge concentration of TDS to 3,500 mg/l, which equals the existing daily maximum limit. In support of its requested modification, the docket holder has completed an environmental study that indicates the proposed change would result in no significant adverse impact on the Schuylkill River. No increase in industrial waste treatment plant capacity or modification of the facilities is proposed. No increase in cooling water supply or approved discharge amounts from the docket holder's other outfalls is proposed. The project discharges to the Schuylkill River in an area that is conditionally designated “Modified Recreational” in DRBC's Comprehensive Plan.

17. Alpine Mountain Ski Area D-90-8-2. An application for the renewal of a surface water withdrawal project to continue withdrawal of 15 mg/30 days to supply the applicant's snow making operations from two surface water intakes in the Brodhead Creek. The project is located in Price Township, Monroe County, Pennsylvania.

18. Upper Gwynedd Township D-91-88 CP-2. An application to modify a 4.5 mgd sewage treatment plant (STP) to process up to 7 mgd during wet weather periods, without increasing the annual average flow. The proposed modifications will enable the STP to continue to provide advanced treatment and meet NPDES permit limitations. STP effluent will continue to be discharged to Wissahickon Creek in the Schuylkill River Watershed. The STP is located just north of Township Line Road and east of North Wales Road in Upper Gwynedd Township, Montgomery County, Pennsylvania and will continue to serve portions of Whitpain and Upper Gwynedd Townships in Montgomery County.

19. North Penn Water Authority D-92-44 CP-2. An application for the renewal of a ground water withdrawal project to continue withdrawal of 280 mg/30 days to supply the applicant's public water supply distribution system from 27 existing production wells, 11 emergency wells and 1 test well. The project is located in the East Branch Perkiomen, Perkiomen, Indian, Skippack, West Branch Skippack, Zacharias, Towamencin, Wissahickon, Three Mile Run, North Branch Neshaminy, West Branch Neshaminy and Pine Run watersheds in Franconia Township, Skippack Township, Lower Salford Township, Souderton Borough, Towamencin Township, Worcester Township, Lansdale Borough, Montgomery Township, Upper Gwynedd Township, East Rockhill Township, New Britain Township, Hatfield Township, Hilltown Township and New Britain Borough in Bucks and Montgomery counties, Pennsylvania and is located in the Southeastern Pennsylvania Ground Water Protected Area.

20. Pennsylvania American Water Company D-99-30 CP-3. An application for approval of a ground water withdrawal and water supply interconnection project to transfer up to 1.548 mgd from the applicant's Glen Alsace public water supply distribution system in Exeter Township, Pennsylvania to the applicant's Douglasville public water supply distribution system in Amity Township, Pennsylvania. The applicant intends to transfer water derived from existing ground water sources in the Glen Alsace distribution system, and supplement demand in the Glen Alsace distribution system from existing interconnections with the Reading Area Water Authority (45 mg/30 days) and the Mount Penn Water Authority (6 mg/30 days). The applicant requests to retain its existing withdrawal of 50 mg/30 days from all wells in the Glen Alsace distribution system. The project is located in the Antietam Creek Watershed in Exeter Township, Berks County, Pennsylvania.

21. Buckingham Township D-2003-13 CP-2. An application for approval of a ground water withdrawal project to supply up to 3.5 mg/30 days of water to the applicant's public water supply distribution system from new Wells Nos. F-6 and F-7 in the Lockatong Formation. The requested allocation represents an increase from 37.5 mg/30 days to 41 mg/30 days. The project is located in the Neshaminy and Pine Creek watersheds in Buckingham Township, Bucks County, in the Southeastern Pennsylvania Ground Water Protected Area.

22. Upper Hanover Authority D-2004-17 CP. An application to expand a 0.06 mgd STP to process 0.098 mgd, while improving upon secondary treatment via chemical addition for phosphorus removal. The plant is located on North State Street just outside the northwest border of East Greenville Borough in Upper Hanover Township, Montgomery County, Pennsylvania. The Perkiomen STP was formerly owned by TTT Realty, Inc. and Pillsbury, Inc. The plant will continue to treat wastewater from the processing of pierogies, but the additional capacity is needed to serve proposed residential development in Upper Hanover Township. Treatment plant effluent will continue to be discharged to Perkiomen Creek in the Schuylkill River Watershed via the existing outfall.

23. Bucks County Water and Sewer Authority D-2004-39 CP-1. An application for approval of a ground water withdrawal project to supply up to 0.9 mg/30 days from Well No. 2C, 2.4 mg/30 days from Well No. 3B, 3.4 mg/30 days from the Morrissey B Well, 0.9 mg/30 days from the Morrissey C Well, 5.2 mg/30 days from the New Hope Manor C Well and 1.5 mg/30 days from the Delaware River intake at the Waterworks Treatment Plant to the applicant's public supply distribution system and to limit the existing withdrawal from all sources to 14.3 mg/30 days. The project is located in the Rabbit Run and Delaware River Watersheds in New Hope Borough, Bucks County, Pennsylvania.

In addition to the public hearing on the dockets listed above, the Commission's 1:30 p.m. business meeting will include public hearings on a resolution extending temporary designation of the Lower Delaware River as Special Protection Waters and a resolution to approve the Water Resources Program for 2006-2011, as well as consideration of a resolution renaming the Flow Management Technical Advisory Committee and modifying its membership and a resolution authorizing the executive director to enter into memoranda of agreement with partners in accordance with a U.S. EPA grant for the development of tools for sustainable watershed management based upon hydrologic relationships in the Pocono Creek Watershed.

The meeting will also include: adoption of the Minutes of the July 20, 2005 business meeting; announcements; a report on basin hydrologic conditions; a report by the executive director; a report by the Commission's general counsel; and an opportunity for public dialogue. Draft dockets and the resolutions scheduled for public hearing on September 26, 2005 will be posted on the Commission's Web site, http://www.drbc.net, where they can be accessed through the Notice of Commission Meeting and Public Hearing. Additional documents relating to the dockets and other items may be examined at the Commission's offices. Please contact William Muszynski at 609-883-9500, extension 221, with any docket-related questions.

Individuals in need of an accommodation as provided for in the Americans with Disabilities Act who wish to attend the informational meeting, conference session or hearings should contact the commission secretary directly at 609-883-9500 ext. 203 or through the Telecommunications Relay Services (TRS) at 711, to discuss how the Commission may accommodate your needs.

Dated: August 29, 2005.
Pamela M. Bush,
Commission Secretary.

[FR Doc. 05-17587 Filed 9-2-05; 8:45 am]

BILLING CODE 6360-01-P